DEPARTMENT OF AGRICULTURE

Forest Service

Thorne Bay Ranger District; Alaska; Big Thorne Project Environmental Impact Statement

AGENCY: Forest Service, USDA.

ACTION: Notice of intent to prepare an environmental impact statement.

SUMMARY: The U.S. Department of Agriculture, Forest Service will prepare an environmental impact statement (EIS) for the Big Thorne Project located on Prince of Wales Island, part of the Thorne Bay Ranger District of the Tongass National Forest. This proposal is the multi-year timber sale component of a larger stewardship effort that will include opportunities such as restoration and enhancement activities that will be identified through other environmental analyses. The overall effort will be implemented through the use of various contracting authorities available to the Forest Service, including timber sale, service, and stewardship contracts, by combining some of the timber harvest activities of this project with restoration and enhancement activities to be analyzed separately. This EIS will consider the cumulative effects of the timber harvest activities and reasonably foreseeable stewardship activities in the area.

DATES: Comments concerning the scope of the analysis must be received by March 14, 2011. The draft environmental impact statement is expected in August 2011 and the final environmental impact statement is expected in February 2012.

ADDRESSES: Send written comments to: Thorne Bay Ranger District, Tongass National Forest, Attn: Big Thorne Project EIS, P.O. Box 19001, Thorne Bay, AK 99919-0001. Comments may be hand-delivered to the Thorne Bay Ranger District, 1312 Federal Way, Thorne Bay, AK 99919-0001, Attn: Big Thorne Project EIS. Comments may also be sent via e-mail to: comments-alaska-tongass-thornebay@fs.fed.us or via facsimile to 907-828-3309, Attn: Big Thorne Project EIS. In all correspondence, please include your name, address, and organization name if you are commenting as a representative of an organization.

FOR FURTHER INFORMATION CONTACT: Jason Anderson, District Ranger, Thorne Bay Ranger District, PO Box 19001, Thorne Bay, AK 99919-0001, (907) 828-3210 or James Kelly, Team Leader, Thorne Bay Ranger District, PO Box 19001, Thorne Bay, AK 99919-0001, (907) 828-3220.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need for the Big Thorne Project is to implement the Tongass Land Management Plan, aligned with the United States Department of Agriculture (USDA) Strategic Plan FY 2010-2015 and the Tongass National Forest transition strategy. The USDA Strategic Plan identifies key priorities and desired outcomes, such as the goals of rural prosperity and preservation and maintenance of forests, as well as means and strategies to achieve them. This project will help to provide an economically viable, reliable, long-term supply of timber that will support jobs for the communities of Southeast Alaska and facilitate the transition to a sustainable forest industry based on young-growth management. Forest restoration and enhancement activities on Prince of Wales Island will be integrated during project implementation to further accomplish the goals of the Strategic Plan. These activities could include the repair of road culverts that do not meet current standards for the passage of fish; recreation activities such as trail improvement; and wildlife and fisheries habitat improvement such as thinning or stream restoration.

Proposed Action

The Forest Service is proposing a multi-year timber sale project as part of a larger stewardship effort. The proposed action would harvest timber from approximately 5,800 acres of forested land using various sizes of timber sales, offered over a period of about 10 years, within the roaded land base on Prince of Wales Island. This harvest would include approximately 600 acres in Phase 2 lands of the Tongass Timber Adaptive Management Strategy and will be reserved for small timber sales. Approximately 37 miles of National Forest System and temporary roads would be constructed and about 26 miles of existing roads would be reconstructed. Preliminary analysis shows that an estimated 100 million board feet of sawtimber and utility wood could be made available to industry for harvest. Existing log transfer facilities would be used as needed. Harvest would include helicopter, ground-based, and cable yarding systems and could include even-aged, even-aged with reserves, two-aged with reserves, and uneven-aged harvest prescriptions to achieve stand objectives. All proposed activities would meet the standards and guidelines of the Tongass Land Management Plan.

While the Forest Service is proposing timber harvest in this project area and other areas on Prince of Wales Island, a collaborative process is ongoing to develop restoration and enhancement projects. The projects from this collaborative effort will be integrated with this timber sale project during implementation to provide stewardship opportunities. The effects of the reasonably foreseeable restoration and enhancement projects will be considered in this analysis, but are not part of this proposed action.

The restoration and enhancement activities will be generated from other planning documents, including the Cobble Landscape Assessment, Luck Lake Watershed Restoration Plan, the Prince of Wales and Surrounding Islands Access Travel Management Plan, and possibly others. In addition, because this project extends over several years, the Forest Service will integrate the project during implementation with future restoration and enhancement projects, including projects developed as a result of the Prince of Wales Island Young Growth Thinning Feasibility Study now being conducted. Examples of specific restoration and enhancement opportunities would include roads and transportation activities (e.g., repairing “red pipes” or bridges, erosion control, vegetation removal, or road relocation); recreation activities (e.g., campground and trails improvements, picnic sites, or vegetation management); young-growth stand improvement; and wildlife and fisheries habitat improvement projects (e.g., beach fringe thinning, or placement of large woody debris in streams).

Possible Alternatives

The proposed action includes an estimated 100 million board feet from approximately 5,800 acres within the roaded land base of east-central Prince of Wales Island. Scoping comments will be used by the Forest Service to develop a range of alternatives in response to significant issues. A no-action alternative will be analyzed.

Responsible Official

The responsible official for the decision on this project is the Forest Supervisor, Tongass National Forest, Federal Building, 648 Mission Street, Ketchikan, Alaska 99901.

Nature of Decision To Be Made

The responsible official will decide whether or not to authorize timber harvest and associated road construction on Prince of Wales Island in the Big Thorne Project area.

Preliminary Issues

Preliminary potential issues which may be analyzed in the EIS include: The potential effects of the project on the Southeast Alaska timber supply, supporting the timber industry during the transition from old-growth harvest to young-growth management, road management, economic and rural stability, subsistence, deer, watersheds and fish, scenery, and inventoried roadless areas.

Permits or Licenses Required

U.S. Environmental Protection Agency

• Review Spill Prevention Control and Countermeasure Plan.

State of Alaska, Department of Environmental Conservation

• Certification of Compliance with Alaska Water Quality Standards (401 Certification);

• Storm water discharge permit/National Pollutant Discharge Elimination System review under Section 402 of the Clean Water Act (402).

State of Alaska, Department of Natural Resources (DNR)

• Solid Waste Disposal Permit;

• Authorization for occupancy and use of tidelands and submerged lands.

Scoping Process

This notice of intent initiates the scoping process, which guides the development of the environmental impact statement. A scoping document will be posted on the Tongass National Forest public Web site at: http://www.fs.fed.us/r10/tongass/projects/projects.shtml and a scoping letter will be mailed out in early February 2011. Individuals who want to be on the project mailing list should contact the Thorne Bay Ranger District at the address above. The scoping package will be available at future public open house meetings planned to be held in Thorne Bay, Coffman Cove, Craig, and Naukati, Alaska in late February or early March 2011. These meetings will be announced in the paper of record, the Ketchikan Daily News, as well as the Island News, Thorne Bay, Alaska.

It is important that reviewers provide their comments at such times and in such manner that they are useful to the agency's preparation of the environmental impact statement. Therefore, comments should be provided prior to the close of the comment period and should clearly articulate the reviewer's concerns and contentions.

Comments received in response to this solicitation, including names and addresses of those who comment, will become part of the public record for this proposed action. Comments submitted anonymously will be accepted and considered, however.

Dated: February 1, 2011.
Forrest Cole,
Forest Supervisor.

[FR Doc. 2011-3072 Filed 2-10-11; 8:45 am]

BILLING CODE 3410-11-P